ENVIRONMENTAL PROTECTION AGENCY

40 CFR Part 52

[EPA-R02-OAR-2022-0647, FRL-12038-02-R2]

Approval and Promulgation of State Implementation Plans; New Jersey; Elements of the 2008 and 2015 Ozone National Ambient Air Quality Standards

AGENCY: Environmental Protection Agency (EPA).

ACTION: Final rule.

SUMMARY: The Environmental Protection Agency (EPA) is approving the demonstration portions of the comprehensive State Implementation Plan (SIP) revision submitted by New Jersey that certify that the State has satisfied the requirements for an emission statement program, certify that the State has satisfied the requirements for an ozone nonattainment new source review program, certify that the State has satisfied the requirements for a nonattainment emission inventory, and certify that the State has satisfied the requirements for clean fuels for fleets. The EPA is approving New Jersey's reasonable further progress plans and associated motor vehicle emission budgets for both the Moderate and Serious classifications of the 2008 ozone NAAQS. These actions are being taken in accordance with the requirements of the Clean Air Act.

DATES: This rule is effective on October 4, 2024.

ADDRESSES: The EPA has established a docket for this action under Docket ID Number EPA-R02-OAR-2022-0647 at https://www.regulations.gov. All documents in the docket are listed on the https://www.regulations.gov website. Although listed in the index, some information is not publicly available, e.g., Controlled Unclassified Information (CUI) (formally referred to as Confidential Business Information (CBI)) or other information whose disclosure is restricted by statute. Certain other material, such as copyrighted material, is not placed on the internet and will be publicly available only in hard copy form. Publicly available docket materials are available electronically through https://www.regulations.gov.

FOR FURTHER INFORMATION CONTACT: Fausto Taveras, Environmental Protection Agency, 290 Broadway, New York, New York 10007-1866, at (212) 637-3378, or by email at Taveras.Fausto@epa.gov.

SUPPLEMENTARY INFORMATION: Throughout this document, whenever “we,” “us,” or “our” is used, we mean EPA.

Table of Contents:

I. What is the background for this action?

II. What comments were received in responses to the EPA's proposed action?

III. What action is the EPA taking?

IV. Environmental Justice Considerations

V. Statutory and Executive Order Reviews

I. What is the background for this action?

On July 10, 2024, the EPA proposed to approve State Implementation Plan (SIP) revisions submitted by the State of New Jersey on November 23, 2021, for purposes of addressing planning elements for the 2008 and 2015 ozone 8-hour National Ambient Air Quality Standard (NAAQS) for the New Jersey portion of the New York-Northern New Jersey-Long Island (NY-NJ-CT) nonattainment area (also referred to as the New York Metro Area or NYMA) and the New Jersey portion of the Philadelphia-Wilmington-Atlantic City (PA-NJ-MD-DE) nonattainment area (also referred to as the Philadelphia area) (the Proposal). See 89 FR 56683. In the Proposal, the EPA proposed to approve New Jersey's reasonable further progress plan and motor vehicle emission budgets for New Jersey's portion of the NYMA for the 2008 ozone Serious classification, New Jersey's certification that the State has satisfied the requirements for an ozone nonattainment new source review (NNSR) program for the 2015 ozone NAAQS in both nonattainment areas and statewide pursuant to requirements for States located in the Ozone Transport Region (OTR), New Jersey's certification that the statewide NNSR also satisfies the requirements for the State's Serious classification in the NYMA area for the 2008 Ozone NAAQS, New Jersey's certification that the State has satisfied the requirements for a nonattainment emission inventory for the 2015 ozone NAAQS in both nonattainment areas, New Jersey's certification that the State has satisfied the requirements of an emission statement program for the 2008 ozone Serious classification for the NYMA nonattainment area, and New Jersey's certification that the State has satisfied the requirements for clean fuels for fleet for the NYMA.

In the Proposal, the EPA also proposed to approve portions of a comprehensive SIP revisions submitted by the State on New Jersey on January 2, 2018. And the EPA proposed to approve New Jersey's reasonable further progress plan and motor vehicle emission budgets for the 2008 ozone Moderate classification of the State's portion of the NYMA. Planning elements addressed in this final action from New Jersey's comprehensive January 2, 2018, and November 23, 2021, SIP submissions along with the respective ozone NAAQS classification and nonattainment areas are outlined in Table 1.

The specific details of New Jersey's SIP submittals and the rationale for the EPA's approval action are explained in the EPA's proposed rulemaking and are not restated in this final action. For this detailed information, the reader is referred to the Proposal.

Table 1—SIP Elements That the EPA Is Approving That Are Addressed in New Jersey's Comprehensive SIP Revision Submitted on January 2, 2018, and November 23, 2021
Ozone NAAQS & classification | SIP element | Nonattainment areas | SIP submission date
2008 Ozone NAAQS—Moderate Classification | Reasonable Further Progress plan and Motor Vehicle Emission Budgets | New Jersey's portion of the New York-Northern New Jersey-Long Island (NY-NJ-CT) | January 2, 2018
2008 Ozone NAAQS—Serious Classification | Reasonable Further Progress plan and Motor Vehicle Emission Budgets | New Jersey's portion of the New York-Northern New Jersey-Long Island (NY-NJ-CT) | November 23, 2021
2008 Ozone NAAQS—Serious Classifications | New Source Review Program (NNSR) certification | New Jersey's portion of the New York-Northern New Jersey-Long Island (NY-NJ-CT) | November 23, 2021
2008 Ozone NAAQS—Serious Classification | Certification of the State's Emission Statement Program | New Jersey's portion of the New York-Northern New Jersey-Long Island (NY-NJ-CT) | November 23, 2021
2008 Ozone NAAQS—Serious Classification | Clean Fuels for Fleets | New Jersey's portion of the New York-Northern New Jersey-Long Island (NY-NJ-CT) | November 23, 2021
2015 Ozone NAAQS—Marginal & Moderate Classifications | New Source Review Program (NNSR) | New Jersey's portion of the Philadelphia-Wilmington-Atlantic City (PA-NJ-MD-DE) & New Jersey's portion of the New York-Northern New Jersey-Long Island (NY-NJ-CT) | November 23, 2021
2015 Ozone NAAQS—OTR | New Source Review Program (NNSR) | Statewide | November 23, 2021
2015 Ozone NAAQS—Marginal & Moderate Classifications | Nonattainment emission inventory under CAA section 182(a)(1) | New Jersey's portion of the Philadelphia-Wilmington-Atlantic City (PA-NJ-MD-DE) & New Jersey's portion of the New York-Northern New Jersey-Long Island (NY-NJ-CT) | November 23, 2021

II. What comments were received in response to the EPA's proposed action?

In response to the Proposal, the EPA received no comments during the 30-day public comment period. As a result, no changes have been made to this final rule.

III. What action is the EPA taking?

In this rule, the EPA is approving portions of a comprehensive SIP revision submitted by the State of New Jersey on November 23, 2021, certifying that the State has satisfied the requirements for an ozone NNSR program for the Serious classification of the 2008 Ozone NAAQS, both Marginal and Moderate classifications and OTR requirements for the 2015 Ozone NAAQS, certifying that the State has satisfied the requirements for a nonattainment emission inventory for the 2015 Ozone NAAQS, certifying that the State has satisfied the requirements of an emission statement program for the 2008 Ozone Serious classification for the NYMA, and certifying that the State has satisfied the requirements for clean fuels for fleets for the 2008 Ozone NAAQS Serious classification for its portion of the NYMA. The EPA is also approving New Jersey's reasonable further progress plans for both the Moderate and Serious classifications of the 2008 Ozone NAAQS in the NYMA.

In this rulemaking, the EPA is finalizing approval of New Jersey's 2017 motor vehicle emissions budgets established for the New Jersey portion of the NY-NJ-CT nonattainment area in the State's comprehensive January 2, 2018, SIP submittal. The EPA is approving these budgets because the EPA has completed its review of the State's overall 2008 Moderate RFP plan which demonstrates the required VOC/NOx emission reduction from the 2011 baseline year under CAA section 172(c)(2), 182(b)(1), and 40 CFR 51.1110. Table 2 lists New Jersey's 2017 motor vehicle emission budgets for the New Jersey portion of the NY-NJ-CT nonattainment area being approved into New Jersey's SIP. Additional details of New Jersey's 2017 motor vehicle emission budgets and the rationale for the EPA's approval are outlined in the EPA's proposed rulemaking. See 89 FR 56683.

Table 2—Motor Vehicle Emission Budgets in New Jersey's 2008 Ozone Moderate RFP Plans
Description | NOX (tons/summer day) | VOC (tons/summer day)
2017 8-Hour Ozone Motor Vehicle Emission Budgets: NJ portion of NY-NJ-CT area | 103.22 | 48.69

In this rulemaking, the EPA is also finalizing approval of New Jersey's 2020 motor vehicle emission budgets established for the New Jersey portion of the NY-NJ-CT nonattainment area in the State's comprehensive November 23, 2021, SIP submittal. The EPA is approving these budgets because the EPA has completed its review of the State's overall 2008 Serious RFP plan which demonstrates the required VOC/NOX emission reduction from the 2011 baseline year under CAA section 182(b)(2)(B) and 40 CFR 51.1110. Table 3 lists New Jersey's 2020 motor vehicle emission budgets for the New Jersey portion of the NY-NJ-CT nonattainment area being approved into New Jersey's SIP. Additional details of New Jersey's 2020 motor vehicle emission budgets and the rationale for the EPA's approval are outlined in the EPA's proposed rulemaking. See 89 FR 56683.

Table 3—Motor Vehicle Emission Budgets in New Jersey's 2008 Ozone Serious RFP Plans
Description | NOX (tons/summer day) | VOC (tons/summer day)
2020 8-Hour Ozone Motor Vehicle Emission Budgets: NJ portion of NY-NJ-CT area | 76.77 | 42.46

IV. Environmental Justice Considerations

New Jersey provided a supplement to the SIP submission being proposed for approval with this rulemaking on June 6, 2024. The supplemental submission briefed the EPA on Environmental Justice (EJ) considerations within New Jersey by detailing the State's programs and initiatives addressing the needs of communities with EJ concerns that have been ongoing since 1998. For more information on New Jersey's EJ initiatives, the EPA refers the reader to the proposal published on July 10, 2024. See 89 FR 56683.

Although New Jersey considered EJ as part of its submittal, the EPA has determined that conducting its own comprehensive EJ analysis is not necessary in the context of this SIP submission for addressing planning elements for the 2008 and 2015 ozone 8-hour NAAQS, as the CAA and its applicable implementing regulations neither prohibit nor require such an evaluation of EJ in relation to the relevant requirements. Additionally, there is no evidence suggesting that this action contradicts the goals of E.O. 12898 or that it will disproportionately harm any specific group or have severe health or environmental impacts. Instead, the EPA expects that this action, which assesses whether New Jersey's SIP adequately addresses planning elements for the 2008 and 2015 ozone 8-hour NAAQS, will generally have a neutral impact on all populations, including communities of color and low-income groups, and will not worsen existing air quality standards.

The EPA concludes, for informational purposes only, that this final rule will not disproportionately harm communities with environmental justice concerns. New Jersey did evaluate EJ considerations voluntarily in its SIP submission, but the EPA's assessment of these considerations is provided for context, not as the basis for the action. The EPA is taking action under the CAA independently of the State's EJ assessment.

V. Statutory and Executive Order Reviews

Under the CAA, the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this final action:

• Is not a “significant regulatory action” subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001);

• Is not subject to requirements of section 12(d) of the National Technology Transfer and Advancement Act of 1995 (15 U.S.C. 272 note) because application of those requirements would be inconsistent with the Clean Air Act.

In addition, this final rulemaking action, pertaining to New Jersey's submissions, is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, Feb. 16, 1994) directs Federal agencies to identify and address “disproportionately high and adverse human health or environmental effects” of their actions on communities with environmental justice (EJ) concerns to the greatest extent practicable and permitted by law. EPA defines environmental justice EJ as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The NJDEP evaluated environmental justice as part of its SIP submittal even though the CAA and applicable implementing regulations neither prohibit nor require an evaluation. The EPA's evaluation of the NJDEP's environmental justice considerations is described above in the section titled, “Environmental Justice Considerations.” The analysis was done for the purpose of providing additional context and information about this rulemaking to the public, not as a basis of the action. The EPA is taking action under the CAA on bases independent of New Jersey's evaluation of environmental justice. In addition, there is no information in the record upon which this decision is based that is inconsistent with the stated goal of E.O. 12898 of achieving environmental justice for people of color, low-income populations, and Indigenous peoples.

This action is subject to the Congressional Review Act, and the EPA will submit a rule report to each House of the Congress and the Comptroller General of the United States. This action is not a “major rule” as defined by 5 U.S.C. 804(2).

Under section 307(b)(1) of the Clean Air Act, petitions for judicial review of this action must be filed in the United States Court of Appeals for the appropriate circuit by November 4, 2024. Filing a petition for reconsideration by the Administrator of this final rule does not affect the finality of this action for the purposes of judicial review nor does it extend the time within which a petition for judicial review may be filed and shall not postpone the effectiveness of such rule or action. This action may not be challenged later in proceedings to enforce its requirements. (See section 307(b)(2)).

List of Subjects in 40 CFR Part 52

Environmental protection, Air pollution control, Incorporation by reference, Intergovernmental relations, Nitrogen dioxide, Ozone, Reporting and recordkeeping requirements, Volatile organic compounds.

Authority: 42 U.S.C. 7401 et seq.

Lisa Garcia,
Regional Administrator, Region 2.

For the reasons set forth in the preamble, 40 CFR part 52 is amended as follows:

PART 52—APPROVAL AND PROMULGATION OF IMPLEMENTATION PLANS

1. The authority citation for part 52 continues to read as follows:

Authority: 42 U.S.C. 7401 et seq.

2. Amend § 52.1570, in the table in paragraph (e), by adding entries for “2008 8-hour Ozone Reasonable Further Progress Plan (RFP) for milestone year 2017; 2017 motor vehicle emission budgets used for planning purposes.”, “2008 8-hour Ozone Reasonable Further Progress Plan (RFP) for milestone year 2020; 2020 motor vehicle emission budgets used for planning purposes.”, “2008 8-hour Ozone Serious Nonattainment New Source Review Requirements Certification”, “2008 8-hour Ozone Serious Emission Statement Program Certification”, “2008 8-hour Ozone Clean Fuel for Fleets”, “2015 8-hour Ozone Marginal Nonattainment New Source Review Requirements Certification”, “2015 8-hour Ozone Moderate Nonattainment New Source Review Requirements Certification”, “2015 8-hour Ozone Nonattainment New Source Review Requirements OTR Certification”, “2015 8-hour Ozone Marginal nonattainment emission inventory”, and “2015 8-hour Ozone Moderate nonattainment emission inventory” to the end of the table to read as follows:

§ 52.1570 Identification of plan.

* * * * *

(e) * * *

EPA-Approved New Jersey Nonregulatory And Quasi-Regulatory Provisions
SIP element | Applicable geographic or nonattainment area | New Jersey submittal date | EPA approval date | Explanation
* * * * * * *
2008 8-hour Ozone Reasonable Further Progress Plan (RFP) for milestone year 2017; 2017 motor vehicle emission budgets used for planning purposes | New Jersey portion of the New York-Northern New Jersey-Long Island NY-NJ-CT 8-hour ozone nonattainment area | 01/02/2018 | 9/4/2024, [insert Federal Register citation] | • Full approval.
2008 8-hour Ozone Reasonable Further Progress Plan (RFP) for milestone year 2020; 2020 motor vehicle emission budgets used for planning purposes | New Jersey portion of the New York-Northern New Jersey-Long Island NY-NJ-CT 8-hour ozone nonattainment area | 11/23/2021 | 9/4/2024, [insert Federal Register citation] | • Full approval.
2008 8-hour Ozone Serious Nonattainment New Source Review Requirements Certification | New Jersey portion of the New York-Northern New Jersey-Long Island NY-NJ-CT 8-hour ozone nonattainment area | 11/23/2021 | 9/4/2024, [insert Federal Register citation] | • Full approval.
2008 8-hour Ozone Serious Emission Statement Program Certification | New Jersey portion of the New York-Northern New Jersey-Long Island NY-NJ-CT 8-hour ozone nonattainment area | 11/23/2021 | 9/4/2024, [insert Federal Register citation] | • Full approval.
2008 8-hour Ozone Clean Fuel for Fleets | New Jersey portion of the New York-Northern New Jersey-Long Island NY-NJ-CT 8-hour ozone nonattainment area | 11/23/2021 | 9/4/2024, [insert Federal Register citation] | • Full approval.
2015 8-hour Ozone Marginal Nonattainment New Source Review Requirements Certification | New Jersey portion of the Philadelphia-Wilmington-Atlantic City, PA-NJ-MD-DE, 8-hour ozone nonattainment area | 11/23/2021 | 9/4/2024, [insert Federal Register citation] | • Full approval.
2015 8-hour Ozone Moderate Nonattainment New Source Review Requirements Certification | New Jersey portion of the New York-Northern New Jersey-Long Island NY-NJ-CT 8-hour ozone nonattainment area | 11/23/2021 | 9/4/2024, [insert Federal Register citation] | • Full approval. • Certifies New Jersey's commitment to implement NNSR requirements statewide within the Ozone Transport Region (OTR) for the 2015 Ozone NAAQS.
2015 8-hour Ozone Nonattainment New Source Review Requirements OTR Certification | State-wide | 11/23/2021 | 9/4/2024, [insert Federal Register citation] | • Full approval. • Certifies New Jersey's commitment to implement NNSR requirements statewide within the Ozone Transport Region (OTR) for the 2015 Ozone NAAQS.
2015 8-hour Ozone Marginal nonattainment emission inventory | New Jersey portion of the Philadelphia-Wilmington-Atlantic City, PA-NJ-MD-DE, 8-hour ozone nonattainment area | 11/23/2021 | 9/4/2024, [insert Federal Register citation] | • Full approval.
2015 8-hour Ozone Moderate nonattainment emission inventory | New Jersey portion of the New York-Northern New Jersey-Long Island NY-NJ-CT 8-hour ozone nonattainment area | 11/23/2021 | 9/4/2024, [insert Federal Register citation] | • Full approval.

3. Amend § 52.1582 by adding paragraph (s) to read as follows:

§ 52.1582 Control strategy and regulations: Ozone.

* * * * *

(s)(1) The Reasonable Further Progress Plans for milestone years 2017 and 2020 pursuant to the 2008 8-hour Ozone NAAQS, included in New York's January 2, 2018, and November 23, 2021, State Implementation Plan submittals for the New Jersey portion of the New York-Northern New Jersey-Long Island NY-NJ-CT 8-hour ozone nonattainment area are approved.

(2) The November 23, 2021, New Jersey plan submittal providing a certification that the State has satisfied the requirements for an ozone nonattainment new source review program as sufficient for purposes of the state-wide 2008 8-hour ozone NAAQS Serious classification, including the New Jersey portion of the NY-NJ-CT nonattainment area, is approved.

(3) New Jersey's certification that the State has satisfied the requirements for Emission Statement Program under the Clean Air Act for the 2008 8-hour Ozone NAAQS Serious classification, included in the State's November 23, 2021, SIP submittal for the New Jersey portion of the New York-Northern New Jersey-Long Island nonattainment area is approved.

(4) New Jersey's certification that the State has satisfied the requirements for Clean Fuel for Fleets under the Clean Air Act for the 2008 8-hour Ozone NAAQS, included in the State's November 23, 2021, SIP submittal for the New Jersey portion of the New York-Northern New Jersey-Long Island nonattainment area is approved.

(5) The November 23, 2021, New Jersey plan submittal providing a certification that the State has satisfied the requirements for an ozone nonattainment new source review program as sufficient for purposes of the 2015 8-hour ozone NAAQS Marginal classification for the New Jersey portion of the Philadelphia-Wilmington-Atlantic City, PA-NJ-MD-DE, 8-hour ozone nonattainment area, is approved.

(6) The November 23, 2021, New Jersey plan submittal providing a certification that the State has satisfied the requirements for an ozone nonattainment new source review program as sufficient for purposes of the state-wide 2015 8-hour ozone NAAQS Moderate classification, including the New Jersey portion of the NY-NJ-CT nonattainment area, is approved.

[FR Doc. 2024-19581 Filed 9-3-24; 8:45 am]

BILLING CODE 6560-50-P